DEPARTMENT OF TRANSPORTATION

Federal Motor Carrier Safety Administration

Solicitation of Applications for FY 2008 Border Enforcement Grant (BEG) Funding

AGENCY: Federal Motor Carrier Safety Administration (FMCSA), DOT.

ACTION: Notice.

SUMMARY: FMCSA announces that it has published an opportunity to apply for FY2008 BEG funding on the grants.gov Web site (http://www.grants.gov). Section 4110 of the Safe, Accountable, Flexible, Efficient Transportation Equity Act: A Legacy For Users (Pub. L. 109-59) established the BEG program. The program is a discretionary grant program that provides funding for border commercial motor vehicle (CMV) safety programs and related enforcement activities and projects. An entity or a State that shares a land border with another country is eligible to receive grant funding. To apply for funding, applicants must register with the grants.gov Web site (http://www.grants.gov/applicants/get_registered.jsp) and submit an application in accordance with instructions provided. Applications for grant funding must be submitted electronically to the FMCSA through the grants.gov Web site.

DATES: FMCSA will initially consider funding of applications submitted by November 1, 2007 by qualified applicants. If additional funding remains available, applications submitted after November 1, 2007 will be considered on a case-by-case basis. Funds will not be available for allocation until such time as FY2008 appropriations legislation is passed and signed into law.

FOR FURTHER INFORMATION CONTACT: Mr. Milt Schmidt, Federal Motor Carrier Safety Administration, Office of Safety Programs, North American Borders Division (MC-ESB), 202-366-4049, 1200 New Jersey Ave., SE., Washington, DC 20590. Office hours are from 7:30 a.m. to 4 p.m., e.t., Monday through Friday, except Federal holidays.

Issued on: September 28, 2007.
William A. Quade,
Associate Administrator for Enforcement and Program Delivery.

[FR Doc. E7-19677 Filed 10-4-07; 8:45 am]

BILLING CODE 4910-EX-P